DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has granted or denied the application described herein.

DATES: Comments must be received on or before August 14, 2025.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on July 9, 2025.
Donald P. Burger,
Chief, General Approvals and Permits Branch.

Application No. | Applicant | Regulation(s) affected | Nature of the special permits thereof
Special Permits Data—Granted
8131-M | National Aeronautics and Space Administration | 173.301a(d), 173.301(h), 173.302a(a) | To modify the special permit to authorize additional packagings.
8178-M | National Aeronautics and Space Administration | 173.302(a)(1), 173.301(f) | To modify the special permit to authorize an additional packaging.
12098-M | Mission Systems Orchard Park Inc | 173.301(f), 173.302a(a)(1) | To modify the special permit to incorporate new testing and inspection criteria and update standards referenced in the permit.
12783-M | CFS Corp | 173.304(a)(1), 173.306(a) | To modify the permit to include an option for the completed package to not exceed 66 lbs gross weight.
14641-M | ConocoPhillips Alaska, Inc | 172.101(j), 173.27(b)(3) | To modify the special permit to authorize an additional hub location.
20777-M | Israel Aerospace Industries Ltd | 172.101(j)(1), 173.302a(a)(1), 173.304a(a)(1), 173.56, 173.185(b) | To modify the special permit to include an additional lithium battery shipping option.
21514-M | National Aeronautics and Space Administration | 173.301(a)(1), 173.301(h)(3), 173.302(a)(1), 173.302(f)(1) | To modify the special permit to authorize cargo-only aircraft.
21619-M | Dolav USA Inc | 173.185(f)(1), 173.185(f)(3) | To modify the special permit to authorize an additional packaging design.
21664-M | Champion Container Corporation | 173.158(f)(3) | To modify the special permit to authorize additional concentrations of nitric acid.
21733-M | Cirkul, Inc | 171.2(k), 172.202(a)(5)(iii)(B) 172.700(a) | To modify the special permit to authorize alternative training and hazard communication.
21890-M | Blue Origin, LLC | 173.301(f)(1), 173.302(a)(1), 173.302(b) | To modify the special permit to update part number references and add a new system of pressure vessels.
21908-N | Zipline International Inc | 172.101(j), 172.301(c), 173.232(g)(3), 173.307(a)(4)(iii) | To authorize the transportation in commerce of certain hazardous materials in quantities that exceed the limitations of the 49 CFR 172.101 Hazardous Materials Table.
21938-N | Amazon.com, Inc | 172.101, 172.102, 172.300, 172.400, 173.301(f), 173.302a(a)(1), 173.304a(a)(2), 173.27(b)(2) | To authorize the transportation in commerce of spacecraft containing various hazardous materials including lithium-ion batteries exceeding 35 kg with a state-of-charge that exceeds thirty percent, and non-DOT specification COPVs and heat pipes containing certain Division 2.2 and 2.3 liquefied and compressed gases.
21962-N | Mountain Air Cargo, Inc | 175.75(c), 175.75(d) | To authorize relief from the air carrier quantity limitations and cargo location requirements under 49 CFR 175.75(c) and (d) for the transportation in commerce of hazardous materials.
21963-N | Corporate Air | 175.75(c), 175.75(d) | To authorize relief from the air carrier quantity limitations and cargo location requirements under 49 CFR 175.75(c) and (d) for the transportation in commerce of hazardous materials.
21964-N | Empire Airlines, Inc | 175.75(c), 175.75(d) | To authorize relief from the air carrier quantity limitations and cargo location requirements under 49 CFR 175.75(c) and (d) for the transportation in commerce of hazardous materials.
21967-N | Suttons International (N.A.) Inc | 180.605(d), 180.605(h)(1) | To authorize the transportation in commerce of portable tanks that have been requalified using an alternative method.
22023-N | Lyra Energy Solutions Inc | 173.185(a)(1), 173.185(b)(6), 173.220(d) | To authorize the transportation in commerce of prototype and low production lithium-ion batteries and those contained in battery-powered vehicles aboard cargo-only aircraft.
22044-N | Cura Emergency Services, L.C | 173.243(d)(1)(i) | To authorize the one-time, one-way transportation in commerce of twenty 330-gallon Intermediate Bulk Containers (IBCs), certified to the Packing Group II performance level, containing nitrating acid mixtures (UN1796).
Special Permits Data—Denied
21984-N | Daicel Safety Systems (Thailand) Company Limited | 173.302a(a)(1) | To authorize the manufacture, mark, sale, and use of non-DOT specification cylinders, like specification DOT 39 cylinders, for use as components of automobile vehicle safety systems.
Special Permits Data—Withdrawn

[FR Doc. 2025-13237 Filed 7-14-25; 8:45 am]

BILLING CODE 4910-60-P